NATIONAL AERONAUTICS AND SPACE ADMINISTRATION

[Notice: (19-046)]

Notice of Centennial Challenges Space Robotics Challenge Phase 2; Correction

AGENCY: National Aeronautics and Space Administration (NASA).

ACTION: Notice.

SUMMARY: The National Aeronautics and Space Administration (NASA) is correcting a document that appeared in the Federal Register on August 9, 2019, concerning Phase 2 of the Space Robotics Challenge is open, and teams that wish to compete may now register.

This document is the correct version. An update of the registration link was added.

DATES: Challenge registration for Phase 2 opens August 12, 2019, and will remain open until 5:00 p.m. Central Time on December 20, 2019. No further requests for registration will be accepted after this date.

FOR FURTHER INFORMATION CONTACT: To register for or get additional information regarding the Space Robotics Challenge, please visit: www.spaceroboticschallenge.com- https://ninesights.ninesigma.com/servlet/hype/IMT?userAction=Browse&documentId=d4414ecdb345e2190f661e20df641dee&templateName=&documentTableId=3422744977151222846.

SUPPLEMENTARY INFORMATION:

Correction

In the Federal Register of August 9, 2019, in FR Document 2019-17061, in the second column on page 39377, under For Further Information, II. Eligibility to Participate and Win Prize Money (3), and III Official Rules, add the registration link.

II. Eligibility To Participate and Win Prize Money

The eligibility requirements (including requirements for foreign participation) can be found on the official challenge site: www.spaceroboticschallenge.com- https://ninesights.ninesigma.com/servlet/hype/IMT?userAction=Browse&documentId=d4414ecdb345e2190f661e20df641dee&templateName=&documentTableId=3422744977151222846.

III. Official Rules

The complete official rules for the Space Robotics Challenge can be found at: www.spaceroboticschallenge.com- https://ninesights.ninesigma.com/servlet/hype/IMT?userAction=Browse&documentId=d4414ecdb345e2190f661e20df641dee&templateName=&documentTableId=3422744977151222846.

Cheryl Parker,
NASA Federal Register Liaison Officer.

[FR Doc. 2019-17469 Filed 8-14-19; 8:45 am]

BILLING CODE 7510-13-P